DEPARTMENT OF COMMERCE

National Oceanic and Atmospheric Administration

RIN 0648-XH093

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) River Herring and Shad (RH/S) Advisory Panel will hold a meeting.

DATES: The meeting will be held on Monday, July 29, 2019, beginning at 1:30 p.m. and concluding by 4 p.m. For agenda details, see SUPPLEMENTARY INFORMATION.

ADDRESSES: The meeting will be held via webinar with a telephone-only audio connection: http://mafmc.adobeconnect.com/rhs-ap-2019/. Telephone instructions are provided upon connecting, or the public can call direct: (800) 832-0736, Rm: *7833942#.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purposes of the meeting are to review the 2019 RH/S Progress Update, review recent related staff and Monitoring Committee work, and provide input regarding possible modifications to the 2020 RH/S Cap for the Atlantic mackerel fishery.

Special Accommodations

The meeting is physically accessible to people with disabilities. Requests for sign language interpretation or other auxiliary aid should be directed to M. Jan Saunders, (302) 526-5251, at least 5 days prior to any meeting date.

Dated: July 11, 2019.
Tracey L. Thompson,
Acting Deputy Director, Office of Sustainable Fisheries, National Marine Fisheries Service.

[FR Doc. 2019-15076 Filed 7-15-19; 8:45 am]

BILLING CODE 3510-22-P